DEPARTMENT OF COMMERCE

Foreign-Trade Zones Board

[S-96-2018]

Approval of Expansion of Subzone 76A; ASML US, LLC; Wilton and Bethel, Connecticut

On July 2, 2018, the Executive Secretary of the Foreign-Trade Zones (FTZ) Board docketed an application submitted by the Bridgeport Port Authority, grantee of FTZ 76, requesting an expansion of Subzone 76A, subject to the existing activation limit of FTZ 76 on behalf of ASML US, LLC, in Wilton and Bethel, Connecticut.

The application was processed in accordance with the FTZ Act and Regulations, including notice in the Federal Register inviting public comment (83 FR 31724, July 9, 2018). The FTZ staff examiner reviewed the application and determined that it meets the criteria for approval. Pursuant to the authority delegated to the FTZ Board Executive Secretary (15 CFR Sec. 400.36(f)), the application to expand Subzone 76A was approved on September 13, 2018, subject to the FTZ Act and the Board's regulations, including Section 400.13, and further subject to FTZ 76's 476-acre activation limit.

Dated: September 13, 2018.
Andrew McGilvray,
Executive Secretary.

[FR Doc. 2018-20367 Filed 9-18-18; 8:45 am]

BILLING CODE 3510-DS-P